DEPARTMENT OF COMMERCE

International Trade Administration

[A-533-809]

Certain Stainless Steel Flanges From India; Extension of Time Limit for Preliminary Results of Administrative Review

AGENCY: Import Administration, International Trade Administration, Department of Commerce.

EFFECTIVE DATE: November 2, 2000.

FOR FURTHER INFORMATION CONTACT: Thomas Killiam or Robert James, AD/CVD Enforcement, Import Administration, International Trade Administration, U.S. Department of Commerce, 14th Street and Constitution Avenue, NW, Washington DC 20230; telephone: (202) 482-5222, or (202) 482-0649, respectively.

Applicable Statute

Unless otherwise indicated, all citations to the statute refer to the provisions effective January 1, 1995, the effective date of the amendments made to the Tariff Act of 1930 (the Act) by the Uruguay Round Agreements Act. In addition, all citations to the Department's regulations are to the current regulations, codified at 19 CFR Part 351 (1999).

Extensions of Time Limits for Preliminary Results

Based on requests by interested parties, on March 24, 2000, the Department initiated an administrative review of the antidumping duty order on certain stainless steel flanges from India, covering the period February 1, 1999 through January 31, 2000 (65 FR 16875, March 30, 2000). The preliminary results are currently due no later than October 31, 2000. The respondents are Echjay Forgings Ltd. (with affiliate Pushpaman), Isibars, Ltd., Panchmahal Steel Ltd., Patheja Forgings & Auto Parts, Ltd., and Viraj Forgings, Ltd. The Department has determined that it is not practicable to issue the preliminary results of review within the original time limit mandated by section 751(a)(3)(A) of the Act and section 351.213(h)(1) of the Department's regulations. See Memorandum from Richard A. Weible to Joseph A. Spetrini, Deputy Assistant Secretary, Enforcement Group III, October 20, 2000. Accordingly, the Department is extending the time limit for completion of the preliminary results until February 28, 2001, in accordance with section 351.213(h)(2). The deadline for the final results of this review will continue to be 120 days after the date on which the preliminary results are published in the Federal Register, in accordance with section 351.213(h)(1).

Dated: October 24, 2000.
Edward C. Yang,
Acting Deputy Assistant Secretary, AD/CVD Enforcement Group III.

[FR Doc. 00-28193 Filed 11-1-00; 8:45 am]

BILLING CODE 3510-DS-P